DEPARTMENT OF THE INTERIOR

Fish and Wildlife Service

50 CFR Part 17

RIN 1018-AI76

Technical Correction; Endangered and Threatened Wildlife and Plants; Proposed Designation of Critical Habitat for Five Endangered Tennessee and Cumberland River Basin Mussels

AGENCY: Fish and Wildlife Service, Interior.

ACTION: Proposed rule; reopening of comment period, announcement of public hearing, availability of draft economic analysis, possible modification of Unit 8 (Rock Creek); correction.

SUMMARY: We, the Fish and Wildlife Service, announce the availability of the draft economic analysis of this proposed critical habitat designation, and that we will hold a public hearing regarding the proposal on October 29, 2003, at Southwest Virginia Community College in Tazewell County, Virginia. This document makes a correction to the critical habitat legal description and gives notice of a possible 6.4-river-kilometer (rkm) (4-river-mile (rmi)) upstream extension of Unit 8 (Rock Creek). We are reopening the comment period for the proposal to designate critical habitat for these species to accommodate the public hearing and to allow all interested parties to comment on the proposed rule, including the new information presented for consideration regarding Unit 8 and the associated draft economic analysis. Comments previously submitted need not be resubmitted, because they will be fully considered in the final determination of the proposal.

DATES: Public hearing: The public hearing will be held from 7 to 10 p.m. Eastern Standard Time (EST) on October 29, 2003, at Southwest Virginia Community College on U.S. Highway 19, in Tazewell County, Virginia. The hearing will consist of an informational meeting in the lobby from 5:30 to 6:30 p.m. EST followed by the formal hearing, held in the main auditorium. Maps of the critical habitat units and information on the species will be available for public review one hour prior to the hearing (between 5:30 and 6:30 p.m.).

Comment submission: The comment period is hereby reopened until December 5, 2003. We must receive comments from all interested parties by the closing date. Any comments that we receive after the closing date will not be considered in the final decision on this proposal.

ADDRESSES: The public hearing will be held at Southwest Virginia Community College on U.S. Highway 19, in Tazewell County, Virginia. Copies of the draft economic analysis are available on the Internet at http://cookeville.fws.gov/; also, you may request copies by writing to the Field Supervisor, U.S. Fish and Wildlife Service, 446 Neal Street, Cookeville, TN 38506, or by calling Rob Tawes, Tennessee Field Office, telephone 931/528-6481, extension 213.

Written comments and materials may be submitted to us at the hearing or by any one of the following methods:

1. You may submit written comments and information to the Field Supervisor, U.S. Fish and Wildlife Service, 446 Neal Street, Cookeville, TN 38501.

2. You may hand-deliver written comments and information to our Tennessee Field Office, at the above address, or fax your comments to (931) 528-7075.

3. You may send comments by electronic mail (e-mail) to robert_tawes@fws.gov. For directions on how to submit electronic filing of comments, see the “Public Comments Solicited” section.

Comments and materials received, as well as supporting documentation used in preparation of this proposed rule, will be available for public inspection, by appointment, during normal business hours at the above address.

FOR FURTHER INFORMATION CONTACT: Rob Tawes, at the above address (telephone (931) 528-6481, extension 213; facsimile (931) 528-7075).

SUPPLEMENTARY INFORMATION:

Background

We listed the Cumberland elktoe (Alasmidonta atropurpurea), oyster mussel (Epioblasma capsaeformis), Cumberlandian combshell (Epioblasma brevidens), purple bean (Villosa perpurpurea), and rough rabbitsfoot (Quadrula cylindrica strigillata) as endangered on January 10, 1997 (62 FR 1647).

We published a proposed critical habitat designation for these five mussels in the June 3, 2003, Federal Register (68 FR 33234). The proposed designation includes portions of Bear Creek (Mississippi, Alabama), the Duck River (Tennessee), Obed River (Tennessee), Powell River (Tennessee, Virginia), Clinch River and its tributaries (Copper Creek and Indian Creek) (Tennessee, Virginia), Nolichucky River (Tennessee), and Beech Creek (Tennessee) in the Tennessee River System, and portions of Rock Creek (Kentucky), the Big South Fork and its tributaries (Bone Camp Creek, White Oak Creek, North White Oak Creek, New River, Crooked Creek, Clear Fork, and North Prong Clear Fork) (Kentucky, Tennessee), Buck Creek (Kentucky), Marsh Creek (Kentucky), Sinking Creek (Kentucky), and Laurel Fork (Kentucky) in the Cumberland River System. This proposal encompasses a total of approximately 892 rkm (544 rmi) of river and stream channels. The proposed designation and associated materials can be viewed at http://cookeville.fws.gov/.

Section 4(b)(2) of the Act requires that we designate critical habitat on the basis of the best scientific data available and after taking into consideration the economic impact, and any other relevant impact, of specifying any particular area as critical habitat. We may exclude an area from critical habitat if we determine that the benefits of excluding the area outweigh the benefits of including the area as critical habitat, provided that such exclusion will not result in the extinction of the species. We have prepared a draft economic analysis concerning the proposed critical habitat designation, which is available for review and comment (see ADDRESSES section).

Public Hearing

Section 4(b)(5)(E) of the Act (16 U.S.C. 1531 et seq.) requires that a public hearing be held if it is requested within 45 days of the publication of the proposed rule. The Board of Supervisors of Tazewell County, Virginia, requested a public hearing within the allotted time period. Public hearings are designed to gather relevant information that the public may have that we should consider in the proposed designation of critical habitat or the draft economic analysis.

We will hold a public hearing in Tazewell County, Virginia, on October 29, 2003, from 7 to 10 p.m. The hearing location will be Southwest Virginia Community College on U.S. Highway 19, located in Tazewell, Virginia. All comments presented at the public hearing will be recorded by a court reporter. Maps of the critical habitat units and information on the species will be available for public review prior to the public hearing (between 5:30 and 6:30 p.m.).

Correction to Proposed Critical Habitat Designation (68 FR 33234)

PART 17—[CORRECTED]

In proposed rule FR Doc. 03-33234 published on June 3, 2003 (68 FR 33234), make the following corrections.

1. Amend the description of Unit 8 on page 33244, changing “Dolan” to “Dolen” in column 3.

§ 17.11 [Corrected]

2. Amend the description of Unit 8 on page 33268, changing “Sinking Creek” to “Dolen Branch” starting in column 2.

Consideration of Additional Stream Mileage in Rock Creek

Since the publication of this proposed critical habitat rule, we have been informed by the U.S. Forest Service that we did not include a reach of Rock Creek (see “Proposed Critical Habitat Designation” section, Unit 8) upstream of Dolen Branch, in which there is a 1998 record of a live Cumberland elktoe. This specimen was collected approximately 5 rkm (3 rmi) upstream of Dolen Branch, southwest of Bell Farm. We will conduct an analysis on this reach prior to making a final determination on this proposed rule. If we determine this reach to be essential, then we intend to include it in the final designation. Inclusion of this reach would add approximately 6.4 rkm (4 rmi) to the upstream terminus of Unit 8 (Rock Creek). The new upstream terminus would be a driveway crossing of Rock Creek at rkm 25.6 (rmi 15.9) (approximately 2.6 kilometers (1.6 miles) southwest of Bell Farm). The map reflecting this extended area follows:

BILLING CODE 4310-55-P

BILLING CODE 4310-55-C

Public Comments Solicited

We solicit comments on the draft economic analysis referred to in this document, as well as on any other aspect of the proposed critical habitat designation for the five Tennessee and Cumberland River Basin mussels. In order to accommodate the public hearing and public review of the draft economic analysis, we are now closing the comment period for both the proposed rule and the draft economic analysis on December 5, 2003. All previous comments and information submitted during the comment period need not be resubmitted. Refer to the ADDRESSES section for information on how to submit written comments and information. Our final determination on the proposed critical habitat will take into consideration comments and any additional information received.

Please submit electronic comments in an ASCII file format and avoid the use of special characters and encryption. Please also include “Attn: RIN 1018-AI76” and your name and return address in your e-mail message. If you do not receive a confirmation from the system that we have received your e-mail message, please contact us directly by calling our Tennessee Field Office (see ADDRESSES section).

Our practice is to make all comments, including names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

We particularly seek comments concerning:

(1) Are there other types of activities, such as habitat conservation plans, related to this proposed designation of critical habitat whose costs are not reflected in the draft economic analysis? If so, please provide as much information as possible to enable us to identify those activities and address those costs.

Author

The primary author of this document is Rob Tawes (see ADDRESSES section).

Authority

The authority for this action is the Endangered Species Act of 1973, as amended (16 U.S.C. 1531 et seq.).

Dated: September 29, 2003.
Julie MacDonald,
Acting Assistant Secretary for Fish and Wildlife and Parks.

[FR Doc. 03-25184 Filed 10-3-03; 8:45 am]

BILLING CODE 4310-55-P